DEPARTMENT OF AGRICULTURE

Animal and Plant Health Inspection Service

[Docket No. APHIS-2024-0058]

General Conference Committee of the National Poultry Improvement Plan; Intent To Reestablish Committee

AGENCY: Animal and Plant Health Inspection Service, USDA.

ACTION: Notice of intent to Reestablish Committee.

SUMMARY: In accordance with the Federal Advisory Committee Act, the U.S. Department of Agriculture gives notice of the Secretary of Agriculture's intent to reestablish the committee and its charter for the General Conference Committee of the National Poultry Improvement Plan (Committee) for a 2-year period. The Secretary has determined that the Committee is necessary and in the public interest.

FOR FURTHER INFORMATION CONTACT: Dr. Elena Behnke, Senior Coordinator, National Poultry Improvement Plan, VS, APHIS, USDA, 1506 Klondike Road, Suite 101, Conyers, GA 30094; (770) 922-3496; Elena.Behnke@usda.gov.

SUPPLEMENTARY INFORMATION: The General Conference Committee of the National Poultry Improvement Plan was established in 1971. The committee is governed in accordance with the Federal Advisory Committee Act and the regulations of title 9, Code of Federal Regulations (9 CFR), § 147.43. The duties of the committee involve assisting the U.S. Department of Agriculture (Department) in planning, organizing, and conducting the National Poultry Improvement Plan (NPIP or Plan) Biennial Conference. Between Plan Conferences, the committee represents the cooperating States in:

• Advising the Department on administrative procedures and interpretations of the Plan provisions contained in the 9 CFR;

• Helping the Department evaluate comments on proposed Plan amendments;

• Recommending to the Secretary any changes in Plan provisions when postponement until the next Plan Conference would seriously impair program operations; and

• Serving as a forum for the study of poultry health problems.

The purpose of the General Conference Committee of the National Poultry Improvement Plan (Committee) is to maintain and ensure industry involvement in Federal administration of matters pertaining to poultry health. The committee meets at least annually. In the even years, the committee meets in conjunction with the NPIP Biennial Conference. The NPIP Biennial Conference is the only national meeting where the industry and State and Federal government consider poultry health issues on a routine basis. The committee members are elected at the NPIP Biennial conference by State delegates from their respective regions. There are seven members with a 4-year staggered term. The poultry industry elects the members of the Committee. The members represent six geographic areas with one member-at-large. The Committee Chairperson and the Vice Chairperson shall be elected by the Committee from among its members.

Any interested person or organization may nominate qualified individuals for membership. Interested candidates may nominate themselves. Individuals who wish to be considered for membership on the General Conference Committee must submit a nomination with information, including a background disclosure form (Form AD-755). Applications and nominations for membership on the Committee will be solicited in subsequent notice in the Federal Register.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Dated: May 9, 2025.
Cikena Reid,
USDA Committee Management Officer.

[FR Doc. 2025-08517 Filed 5-13-25; 8:45 am]

BILLING CODE 3410-34-P